DEPARTMENT OF AGRICULTURE

Natural Resources Conservation Service

Notice of Proposed Change to the Natural Resources Conservation Service's National Handbook of Conservation Practices

AGENCY: Natural Resources Conservation Service, USDA, Idaho State Office.

ACTION: Notice of availability of proposed changes in the NRCS National Handbook of Conservation Practices, Section IV of the Idaho State NRCS Field Office Technical Guide (FOTG) for review and comment.

SUMMARY: It is the intention of the NRCS in Idaho to issue revised conservation practice standards in its National Handbook of Conservation Practices. The revised standards are: Alley Cropping (311), Waste Storage Facility (313), Brush Management (314), Composting Facility (317), Well Decommissioning (351), Waste Treatment Lagoon (359), Atmospheric Resource Quality Management (370), Silvopasture Establishment (381), Field Border (386), Irrigation Water Conveyance—Ditch and Canal Lining, Flexible Membrane (428B), Irrigation System, Sprinkler (442), Forest Site Preparation (490), Heavy Use Area Protection (561), Nutrient Management (590), Pest Management (595) and Salinity and Sodic Soil Management (610).

DATES: Comments will be received for a 30-day period commencing with this date of publication.

FOR FURTHER INFORMATION CONTACT: Inquire in writing to Richard W. Sims, State Conservationist, Natural Resources Conservation Service (NRCS), 9173 W. Barnes Dr., Suite C, Boise, Idaho 83709. Copies of the practice standards will be made available upon written request. You may also submit your electronic requests and comments to barbara.albiston@id.usda.gov.

SUPPLEMENTARY INFORMATION: Section 343 of the Federal Agriculture Improvement and Reform Act of 1996 states that revisions made after enactment of the law to NRCS State Technical Guides used to carry out highly erodible land and wetland provisions of the law shall be made available for public review and comment. For the next 30 days, the NRCS in Idaho will receive comments relative to the proposed changes. Following that period, a determination will be made by the NRCS in Idaho regarding disposition of those comments and a final determination of change will be made.

Dated: December 23, 2004.
Richard W. Sims,
State Conservationist, Boise, Idaho.

[FR Doc. 05-508 Filed 1-10-05; 8:45 am]

BILLING CODE 3410-16-P